DEPARTMENT OF THE INTERIOR

National Park Service

National Register of Historic Places; Notification of Pending Nominations and Related Actions

Nominations for the following properties being considered for listing or related actions in the National Register were received by the National Park Service before October 3, 2009. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by November 2, 2009

J. Paul Loether,
Chief, National Register of Historic Places/National Historic Landmarks Program.

ARKANSAS

Poinsett County

Tyronza Commercial Historic District, S. Main St. bounded on the N. by Old U.S. Hwy 63 and on the S. by Mullins St., Tyronza, 09000896

ILLINOIS

Fulton County

East Waterford School, Jct. N. Dickson Mounds Rd. and the E. Prairie Rd., Lewistown, 09000897

Sangamon County

Garvey, Hugh M., House, 8 Fair Oaks Dr., Leland Grove, 09000898

LOUISIANA

East Baton Rouge Parish

Downtown Baton Rouge Historic District, 3rd between roughly Main St. and N. Blvd; 210-240 Laurel & 301-355 N. Blvd., Baton Rouge, 09000899

MISSOURI

Saline County

Mt. Carmel Historic District, 290th Rd. and MO Hwy 41 N., Marshall, 09000900

St. Louis County

Ladue Estates, 1-80 Ladue Estates Dr., Creve Coeur, 09000901

St. Louis Independent City

St. Louis Stamping Company Buildings, 101 Cass Ave., St. Louis, 09000902

NEBRASKA

Buffalo County

Masonic Temple and World Theater Building, 2318 Central Ave., Kearney, 09000903

Cuming County

West Point City Auditorium, 237 N. Main St., West Point, 09000904

Thurston County

Picotte, Susan La Flesche, House, 100 Taft, Walthill, 09000905

NEW YORK

Columbia County

Lynch, James, House, 33 Ferry Rd., Nutten Hook, 09000906

Pratt Homestead, 866 Rt. 203, Spencertown, 09000907

Greene County

Brandow, William, House, 480 Rt. 385, Athens, 09000908

Onondaga County

Will, Louis, House, 714 N. McBride St., Syracuse, 09000909

Saratoga County

Rayfiel, David, House, 1266 Kathan Rd., Day, 09000910

OHIO

Montgomery County

Graphic Arts Building, 221-223 S. Ludlow St., Dayton, 09000911

Summit County

Main Exchange Historic District, 1 W. Exchange St., 323-337 S. Main St., 12 E. Exchange St., 380-348 S. Main St., 328-326 S. Main St., Akron, 09000912

SOUTH CAROLINA

Greenville County

Conestee Mill, 1 Spance Dr., Conestee, 09000913

Lee County

Ashwood School Gymnasium and Auditorium, 160 Ashwood School Rd., Bishopville, 09000914

VERMONT

Chittenden County

Church Street Historic District, Generally the Church St. corridor, along with flanking blocks of Bank, Cherry, College, and Main Sts., Burlington, 09000915

Winooski Falls Mills Historic District (Boundary Increase), 110 W. Canal St., Winooski, 09000916

Rutland County

Braintree School, (Educational Resources of Vermont MPS) 9 Warren Switch Rd., Pawlet, 09000917

Windham County

George-Pine-Henry Street Historic District, 5-22 George St; 1-17 Pine St.; 32-44 Henry St., Rockingham, 09000918

VIRGINIA

Albemarle County

Boyd Tavern, VT 616, Boyd Tavern, 09000919

Charlotte County

Annefield, 3200 Sunny Side Rd., Saxe, 09000920

Danville Independent City

Dan River Mill No. 8, 424 Memorial Dr., Danville, 09000923

Loudoun County

Hillsboro Historic District (Boundary Increase), Charles Town Pike, between Hillsboro Rd. and Stony Point Rd., Hillsboro, 09000921

Norfolk Independent City

Virginia Ice & Freezing Corporation Cold Storage Warehouse, 835 Southampton Ave., Norfolk, 09000922

Richmond Independent City

Grace Street Commercial Historic District (Boundary Increase), 626, 700 E. Broad St., 12-118 N. 8th St., 707-715 E. Franklin St., 2-18 and 13 W. Franklin St., Richmond, 09000924

Wythe County

Foster Falls Historic District, New River Trail State Park, 176 Orphanage Dr., Max Meadows, 09000925

Request for REMOVAL has been made for the following resources:

MISSISSIPPI

Hinds County

Armour Company Smokehouse and Distribution Plant, 320 W. Pearl St., Jackson, 83003956

[FR Doc. E9-24960 Filed 10-15-09; 8:45 am]

BILLING CODE P